DEPARTMENT OF COMMERCE

Economics and Statistics Administration

Decennial Census Advisory Committee

AGENCY: Economics and Statistics Administration, Department of Commerce.

ACTION: Notice of public meeting.

SUMMARY: Pursuant to the Federal Advisory Committee Act (Public Law 92-463, as amended by Pub. L. 94-409, Pub. L. 96-523, and Pub. L. 97-375), we are giving notice of a meeting of the Decennial Census Advisory Committee. The Committee will address policy, research, and technical issues related to the American Community Survey, Census 2000 operations and activities and related decennial programs. Last minute changes to the schedule are possible, which could prevent us from giving advance notice.

DATES: On Thursday, September 21, 2000, the meeting will begin at 9 a.m. and adjourn at approximately 5 p.m. On Friday, September 22, 2000, the meeting will begin at 9 a.m. and adjourn at approximately 12:15 p.m.

ADDRESSES: The meeting is at the Hilton Alexandria Mark Center Hotel, 5000 Seminary Road, Alexandria, VA.

FOR FURTHER INFORMATION CONTACT: Maxine Anderson-Brown, Committee Liaison Officer, Department of Commerce, Bureau of the Census, Room 1647, Federal Building 3, Washington, DC 20233; telephone 301-457-2308, TDD 301-457-2540.

SUPPLEMENTARY INFORMATION: The Decennial Census Advisory Committee is composed of a Chair, Vice-Chair, and up to 40 member organizations, all appointed by the Secretary of Commerce. The Committee considers the goals of the decennial census and users' needs for information provided by that census. The Committee provides an outside user perspective about how research and design plans for the 2010 decennial census, and the development of the American Community Survey and other related programs, will realize those goals and satisfy those needs. The members of the Advisory Committee draw on their experience with Census 2000 planning and operational processes, results of research studies, test censuses, and results of the Census 2000 Evaluation Program to provide input on the design and related operations of the 2010 decennial census, the American Community Survey, and other related programs.

A brief period will be set aside at the meeting for public comment. However, individuals with extensive statements for the record must submit them in writing to the Commerce Department official named above at least three working days prior to the meeting. Seating is available to the public on a first-come, first-served basis.

The meeting is physically accessible to people with disabilities. Requests for sign language interpretation or other auxiliary aids should be directed to the Census Bureau Committee Liaison Officer on 301-457-2308, TDD 301-457-2540.

Dated: August 24, 2000.
James K. White,
Associate Under Secretary for Management, Economics and Statistics Administration.

[FR Doc. 00-22231 Filed 8-30-00; 8:45 am]

BILLING CODE 3510-07-M